DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995, as last amended at 64 FR 69274 dated December 10, 1999). This notice reflects the organizational and functional changes in the West Central Field Cluster (RF4).

Section RF-10—Organization

The West Central Field Cluster is headed up by the Field Director who reports directly to the Associate Administrator, Office of Field Operations. The West Central Field Cluster is organized as follows:

A. Immediate Office of the Field Director.

B. Office of Planning, Analysis and Evaluation.

C. Division of Operations I.

D. Division of Operations II.

E. Division of Operations III.

Section RF-20—Function

Immediate Office of the Field Director (RF 43)

Serves as HRSA's senior public health official in the West Central cluster, providing liaison with State and local health officials as well as professional organizations; (2) provides input from local, regional and state perspectives to assist the Administrator and the Associate Administrators in the formulation, development, analysis and evaluation of HRSA programs and initiatives; (3) at the direction of the Administrator and/or in conjunction with the HRSA Associate Administrators and the Associate Administrator, Office of Field Operations, coordinates the field implementation of special initiatives which involve multiple HRSA programs and/or field offices (e.g., Border Health); (4) assists with the implementation of HRSA programs in the field by supporting the coordination of activities, alerting program officials of potential issues and assessing policies and service delivery systems; (5) represents the Administrator in working with other Federal agencies, state and local health departments, schools of public health, primary care associations and organizations, community health centers, and others in coordinating health programs and activities; and (6) exercises line management authority as delegated from the Administrator for general administrative and management functions within the field structure.

Office of Planning, Analysis and Evaluation (RF44)

Provides technical assistance, consultation, training to Field Cluster staff, grantees related to data systems, planning, and evaluation; (2) serves as focal point for States and Agency grantees on data and data systems issues related to HRSA program requirements; (3) develops statistical profiles of HRSA grantees in the region, and analysis of Geographic Information Systems profiles and other profiles developed by federal, state and local agencies in the region; (4) develops State profiles; (5) conducts and disseminates, as appropriate, trend analysis of financial data, health indicators, and service data to identify emerging trends among HRSA grantees and health service catchment areas in the Southeast; (6) provides consultation and support to private nonprofit organizations involved in health care delivery around special studies, research, and evaluation related to health disparities; (7) analyzes program related reports; and (8) maintains Field Cluster program related database.

Division of Operations I (RF45)

Directs and coordinates field development and implementation of HRSA programs and activities in two states within the West Central Field Cluster designed to increase access, capacity, and capabilities of local and state health systems and programs serving the underserved populations in the states served by the cluster, including primary care programs, maternal and child health, HIV/AIDS, health facilities construction under the Hill-Burton Program, rural health, and other health related programs in the cluster; (2) provides continuous program monitoring of HRSA health service grants and contracts for compliance with applicable laws, regulations, policies, and performance standards; (3) assists in the implementation and monitors policies related to National Health Service Corps scholarship and loan repayment programs; (4) provides for development, implementation, and monitoring of the annual field work plan related to assigned program areas, including setting objectives responsive to national and field priorities based on guidance provided by appropriate HRSA bureau components and assigns division resources required to attain these objectives; (5) coordinates with other field office staff and headquarters staff to develop and consolidate objectives crossing program and division lines; (6) serves as source of expertise on health resources and services development, primary health care, maternal and child health, rural health, HIV/AIDS, and health professions programs; (7) establishes effective communication and working relationships with health-related organizations of States and other jurisdictions; and (8) serves as a focal point for information on health resource programs and related efforts, including voluntary, professional, academic and other private sector activities.

Division of Operations II (RF46)

Directs and coordinates field development and implementation of programs and activities in three states within the West Central Field Cluster designed to increase access, capacity, and capabilities of local and state health systems and programs serving the underserved populations in the states served by the cluster, including primary care programs, maternal and child health, HIV/AIDS, health facilities construction under the Hill-Burton Program, rural health, and other health related programs in the cluster; (2) provides continuous program monitoring of HRSA health service grants and contracts for compliance with applicable laws, regulations, policies, and performance standards; (3) assists in the implementation and monitors policies related to National Health Service Corps scholarship and loan repayment programs; (4) provides for development, implementation, and monitoring of the annual field work plan related to assigned program areas, including setting objectives responsive to national and field priorities based on guidance provided by appropriate HRSA bureau components and assigns division resources required to attain these objectives; (5) coordinates with other field office staff and headquarters staff to develop and consolidate objectives crossing program and division lines; (6) serves as source of expertise on health resources and services development, primary health care, maternal and child health, rural health, HIV/AIDS, and health professions programs; (7) establishes effective communication and working relationships with health-related organizations of States and other jurisdictions; and (8) serves as a focal point for information on health resource programs and related efforts, including voluntary, professional, academic and other private sector activities.

Division of Operations III (RF47)

Directs and coordinates field development and implementation of programs and activities in six states within the West Central Field Cluster designed to increase access, capacity, and capabilities of local and state health systems and programs serving the underserved populations in the states served by the cluster, including primary care programs, maternal and child health, HIV/AIDS, health facilities construction under the Hill-Burton Program, rural health, and other health related programs in the cluster; (2) provides continuous program monitoring of HRSA health service grants and contracts for compliance with applicable laws, regulations, policies, and performance standards; (3) assists in the implementation and monitors policies related to National Health Service Corps scholarship and loan repayment programs; (4) provides for development, implementation, and monitoring of the annual field work plan related to assigned program areas, including setting objectives responsive to national and field priorities based on guidance provided by appropriate HRSA bureau components and assigns division resources required to attain these objectives; (5) coordinates with other field office staff and headquarters staff to develop and consolidate objectives crossing program and division lines; (6) serves as source of expertise on health resources and services development, primary health care, maternal and child health, rural health, HIV/AIDS, and health professions programs; (7) establishes effective communication and working relationships with health-related organizations of States and other jurisdictions; and (8) serves as a focal point for information on health resource programs and related efforts, including voluntary, professional, academic and other private sector activities.

Section RF-30 Delegations of Authority

All delegations and redelegations of authority which were in effect immediately prior to the effective date hereof have been continued in effect in them or their successors pending further redelegation.

This reorganization is effective upon the date of signature.

Dated: February 8, 2000.
Claude Earl Fox,
Administrator.

[FR Doc. 00-3916 Filed 2-17-00; 8:45 am]

BILLING CODE 4160-15-P